DEPARTMENT OF TRANSPORTATION

Office of the Secretary

Notice of Applications for Certificates of Public Convenience and Necessity and Foreign Air Carrier Permits Filed Under Subpart B (Formerly Subpart Q) During the Week Ending July 8, 2005

The following Applications for Certificates of Public Convenience and Necessity and Foreign Air Carrier Permits were filed under subpart B (formerly subpart Q) of the Department of Transportation's Procedural Regulations (see 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-1999-6210.

Date Filed: July 8, 2005.

Due Date for Answers, Conforming Applications, or Motion to Modify Scope: July 29, 2005.

Description: Application of Delta Air Lines, Inc., requesting renewal of its certificate of public convenience and necessity to engage in scheduled foreign air transportation of persons, property, and mail between Atlanta, GA and Buenos Aires, Argentina.

Docket Number: OST-2005-21805.

Date Filed: July 6, 2005.

Due Date for Answers, Conforming Applications, or Motion to Modify Scope: July 27, 2005.

Description: Application of Tyrolean Jet Service Nfg. GmbH & Co. KG requesting a foreign air carrier permit authorizing it to conduct charter foreign air transportation of persons, property and mail between any point or points in Austria and any point or points in the United States; and between any point or points in the United States and any point or points in a third country or countries, provided that such service constitutes part of a continuous operation, with or without a change of aircraft, that includes air service to Austria for the purpose of carrying local traffic between Austria and the United States, and other charters between third countries and the United States.

Docket Number: OST-2005-21822.

Date Filed: July 8, 2005.

Due Date for Answers, Conforming Applications, or Motion to Modify Scope: July 29, 2005.

Description: Application of Small Community Airlines, Inc. requesting authority as a commuter air carrier to conduct scheduled passenger operations from Dallas Love Field, TX (DAL) to Lake Charles Regional Airport, LA (LCH); and motion to withhold from public disclosure Exhibits C, I, J, K, P, Q and R.

Docket Number: OST-2005-21828.

Date Filed: July 8, 2005.

Due Date for Answers, Conforming Applications, or Motion to Modify Scope: July 29, 2005.

Description: Joint application of America West Airlines, Inc., U.S. Airways, Inc. and PSA Airlines, Inc. (collectively “the Joint Applicants”) requesting approval of the de facto certificate transfer that will result from the common ownership of America West, U.S. Airways, and PSA by a restructured U.S. Airways Group, Inc. In addition, the Joint Applicants request that the Department approve the final transfer of international authority that will occur upon the ultimate merger of the mainline carriers. The Joint Applicants also seek route integration authority to enable them to integrate their services on the transferred routes with existing services on other international routes.

Renee V. Wright,
Program Manager, Docket Operations, Federal Register Liaison.

[FR Doc. 05-14895 Filed 7-26-05; 8:45 am]

BILLING CODE 4910-62-P